DEPARTMENT OF TRANSPORTATION

Surface Transportation Board

[STB Finance Docket No. 34949]

Georgia Southwestern Railroad, Inc.—Acquisition Exemption—The South Western Rail Road Company and Central of Georgia Railroad Company

Georgia Southwestern Railroad, Inc. (GSWR), a Class III rail carrier, has filed a verified notice of exemption under 49 CFR 1150.41 to acquire (by purchase) pursuant to an agreement entered into with Norfolk Southern Railway Company (NSR) portions of a rail line from two NSR subsidiaries: (1) The South Western Rail Road Company, extending between milepost H-275.00, at Smithville, GA, and milepost H-339.00, at Eufaula, AL; and (2) Central of Georgia Railroad Company, extending between milepost H-333.59 (which equates to milepost L-333.59), at Eufaula, and milepost L-349.00 near White Oak, AL. The total distance of the rail line to be purchased by GSWR is 79.41 miles. GSWR has been leasing and operating the rail line from NSR and will continue as the operator after it purchases the line.

GSWR certifies that its projected annual revenues as a result of this transaction will not result in GSWR's becoming a Class II or Class I rail carrier, and further certifies that its projected annual revenues will not exceed $5 million.

The transaction was expected to be consummated on or shortly after November 8, 2006.

If the notice contains false or misleading information, the exemption is void ab initio. Petitions to revoke the exemption under 49 U.S.C. 10502(d) may be filed at any time. The filing of a petition to revoke will not automatically stay the transaction.

An original and 10 copies of all pleadings, referring to STB Finance Docket No. 34949, must be filed with the Surface Transportation Board, 1925 K Street, NW., Washington, DC 20423-0001. In addition, one copy of each pleading must be served on Karl Morell, Of Counsel, Ball Janik LLP, 1455 F Street, NW., Suite 225, Washington, DC 20005.

Board decisions and notices are available on our Web site at http://www.stb.dot.gov.

Decided: November 15, 2006.
By the Board, David M. Konschnik, Director, Office of Proceedings.
Vernon A. Williams,
Secretary.

[FR Doc. E6-19690 Filed 11-21-06; 8:45 am]

BILLING CODE 4915-01-P